INTERNATIONAL TRADE COMMISSION

[Investigation No. 337-TA-765]

In the Matter of Certain Display Devices, Including Digital Televisions and Monitors II; Notice of Commission Determination Not To Review an Initial Determination Granting a Joint Motion by Complainant and Respondents To Terminate the Investigation in Its Entirety on the Basis of a Settlement Agreement; Termination of the Investigation

AGENCY: International Trade Commission.

ACTION: Notice.

SUMMARY: Notice is hereby given that the U.S. International Trade Commission has determined not to review an initial determination (“ID”) (Order No. 9) of the presiding administrative law judge (“ALJ”) granting a joint motion by Complainant and Respondents to terminate the investigation on the basis of a settlement agreement.

FOR FURTHER INFORMATION CONTACT: Panyin A. Hughes, Esq., Office of the General Counsel, U.S. International Trade Commission, 500 E Street, SW., Washington, DC 20436, telephone (202) 205-3042. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on March 11, 2011, based on a complaint filed by Sony Corporation of Tokyo, Japan (“Sony”). 76 FR 13432 (Mar. 11, 2011). The complaint alleged violations of section 337 of the Tariff Act of 1930 (19 U.S.C. 1337) in the importation into the United States, the sale for importation, and the sale within the United States after importation of certain display devices, including digital televisions and monitors by reason of infringement of various claims of United States Patent Nos. 5,731,847; 5,583,577; 6,661,472; and RE40,468. The complaint named LG Electronics, Inc. of Seoul, Korea, and LG Electronics U.S.A., Inc. of Englewood Cliffs, New Jersey (collectively, “LG”) as respondents.

On August 10, 2011, Sony and LG filed a joint motion to terminate the investigation in its entirety based on the execution of a settlement agreement and term sheets. On August 22, 2011, the Commission investigative attorney filed a response in support of the motion to terminate the investigation.

On August 25, 2011, the ALJ issued the subject ID (Order No. 9) terminating the investigation. None of the parties petitioned for review of the ID. The Commission has determined not to review the ID. Accordingly, this investigation is terminated.

The authority for the Commission's determination is contained in section 337 of the Tariff Act of 1930, as amended (19 U.S.C. 1337), and in section 210.42 of the Commission's Rules of Practice and Procedure (19 CFR 210.42).

Issued: September 19, 2011.
By order of the Commission.
James R. Holbein,
Secretary to the Commission.

[FR Doc. 2011-24382 Filed 9-21-11; 8:45 am]

BILLING CODE 7020-02-P